SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below: OMB, Office of Management and Budget, Attn: Desk Officer for SSA, New Executive Building, Room 10235, 725 17th St., NW., Washington, DC 20503, Fax: 202-395-6974.

SSA, Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Petition to Obtain Approval Of A Fee For Representing A Claimant Before The Social Security Administration—20 CFR Subpart R, 404.1720, 404.1725, Subpart F, 410.686b, Subpart O, 416.1520 and 416.1525—0960-0040. A representative of a claimant for Social Security benefits must file either a fee petition or a fee agreement with SSA in order to charge a fee for representing a claimant in proceedings before SSA. The representative uses Form SSA-1560 to petition SSA for authorization to charge and collect a fee. A claimant may also use the form to agree or disagree with the requested fee amount or other information the representative provides on the form. SSA uses the information to determine a reasonable fee that a representative may charge and collect for his or her services. The respondents are claimants, their attorneys, and other persons representing them.

Type of Request: Extension of an OMB-Approved Information Collection.

Number of Respondents: 34,624.

Frequency of Response: 1.

Average Burden Per Response: 30 minutes.

Estimated Average Burden: 17,312 hours.

2. Child Relationship Statement—0960-0116. SSA uses the information collected on Form SSA-2519 to help determine the entitlement of children to Social Security benefits under section 216(h)(3) of the Social Security Act (Deemed Child Provision). The respondents are persons providing information about the relationship between the worker and his/her alleged biological child, in connection with the child's application for benefits.

Type of Request: Extension of an OMB-approved collection.

Number of Respondents: 50,000.

Frequency of Response: 1.

Average Burden Per Response: 15 minutes.

Estimated Annual Burden: 12,500 hours.

3. Request for Replacement Social Security Benefits Statement—20 CFR 401.45—0960-0583. The information requested by the Social Security Administration (SSA) via the Internet will be used to verify, identify, and to provide replacement copies of Form SSA-1099/SSA-1042, which are needed to prepare Federal tax returns. This Internet option to request a replacement SSA-1099/SSA-1042 will eliminate the need for a phone call to a teleservice center or a visit to a field office. The respondents are beneficiaries who request a replacement SSA-1099/1042 via the Internet.

Type of Request: Extension of an OMB-approved information collection.

Number of Respondents: 7,000.

Frequency of Response: 1.

Average Burden Per Response: 5 minutes.

Estimated Average Burden: 583 hours.

II. The information collection listed below has been submitted to OMB for clearance. Your comments on the information collections would be most useful if received by OMB and SSA within 30 days from the date of this publication. You can obtain a copy of the OMB clearance package by calling the SSA Reports Clearance Officer at 410-965-0454, or by writing to the addresses listed above.

1. Statement of Self-Employment Income—20 CFR Subpart B, 404.101, Subpart K, 404.1096—0960-0046. The information collected on Form SSA-766 is used to determine if the individual will have at least the minimum amount of self-employment income needed for one or more quarters of coverage in the current year. Additional quarters of coverage may be credited on the basis of the information obtained, and benefits payments may be expedited where there are sufficient quarters of coverage to give the individual insured status. The respondents are self-employed persons applying for Social Security benefits.

Type of Request: Extension of an OMB-approved information collection.

Number of Respondents: 5,000.

Frequency of Response: 1.

Average Burden Per Response: 5 minutes.

Estimated Annual Burden: 417 hours.

2. Application FforFor Special Age 72-or-Over Monthly Payments—20 CFR, Subpart D, 404.380-384—0960-0096. Form SSA-19-F6 is needed to determine if an individual is entitled to Special Age 72 payments. Eligibility requirements will be evaluated based on the data collected in this form. The respondents are individuals who attained age 72 before 1972.

Type of Request: Extension of an OMB-approved collection.

Number of Respondents: 10.

Frequency of Response: 1.

Average Burden Per Response: 20 minutes.

Estimated Annual Burden: 3 hours.

3. Subpart T-State Supplementation Provisions—2020 CFR 416.2095-2099—0960-0240. Section 1618 of the Social Security Act contains pass-along provisions of the Social Security Amendments. These provisions require States that supplement the Federal SSI benefits to pass along Federal cost-of-living increases to the individuals who are eligible for State Supplementary benefit payments. If the State fails to keep payments at the required level, it becomes ineligible for Medicaid reimbursement under Title XIX of the Social Security Act. Regulations at 20 CFR 416.2099 require the States to report mandatory minimum and optional supplementary payment data to SSA. The information is used to determine compliance with the law and regulations. The respondents are States that supplement Federal SSI payments.

Type of Request: Extension of an OMB-approved information collection.

Number of Respondents: 26.

Frequency of Response: 15 states report quarterly, 11 states report annually.

Average Burden Per Response: 1 hour.

Estimated Annual Burden: 71 hours.

4. You Can Make Your Payment by Credit Card—0960-0462. SSA will use the information on Forms SSA-4588 and SSA-4589 to update the individual's Social Security record to reflect that a payment has been made on their overpayment and to effectuate payment through the appropriate credit card company. The respondents are Title II (Old-Age, Survivors, and Disability Insurance) and Title XVI (Supplemental Security Income) debtors; and citizens requesting material through SSA.

Type of Request: Extension of an OMB-approved information collection.

Number of respondents: 19,000.

Frequency of Response: 1.

Average Burden Per Response: 5 minutes.

Estimated Annual Burden: 1,583 hours.

5. State Vocational Rehabilitation Agency Claim (SSA-199-U2) and Subpart V—Payments for Vocational Rehabilitation Services—20 CFR Sections 404.2104, 404.2108, 404.2113, 404.2117, 404.2121, 416.2204, 416.2208, 416.2213, 416.2217-0960-0310. The information collected on Form SSA-199-U2 and through these current rules is used by SSA to determine if State vocational rehabilitation agencies are providing appropriate services, including referrals when necessary, and whether those claims for services should be paid. The respondents are the 80-100 State vocational rehabilitation agencies and alternate participants who offer vocational and employment services for SSA beneficiaries.

Type of Request: Extension of an OMB-approved information collection.

CFR sections | Number of respondents | Frequency of response | Average burden per response (minutes) | Estimated annual burden (hours)
404.2108 & 416.2208 SSA-199 | 90 | ²145 | 23 | 5,003
404.2117 & 416.2217 | 80 | 1 | 160 | 80
404.2121 & 416.2221 | ¹90 | 1 | 100 | 833
¹500 total responses for all participants.
²On Average.

Total Burden Hours For this Request: 5,916 hours

6. Childhood Disability Evaluation Form—20 CFR 416.924—0960-0568. SSA and State Disability Determination Services use the information collected on the Form SSA-538 to record medical and functional findings regarding the severity of impairments of the children who claim Supplemental Security Income benefits based on disability. The form is used for initial determinations of eligibility, in appeals and in initial continuing disability reviews.

Type of Request: Extension of an OMB-approved information collection.

Number of Respondents: 750,000.

Frequency of Response: 1.

Average Burden Per Response: 25 minutes.

Estimated Annual Burden: 312,500 hours.

Dated: September 23, 2003.
Elizabeth A. Davidson,
Reports Clearance Officer, Social Security Administration.

[FR Doc. 03-24307 Filed 9-25-03; 8:45 am]

BILLING CODE 4191-02-P